DEPARTMENT OF DEFENSE

Department of the Army

Notice of Availability (NOA) of the Draft Environmental Impact Statement (DEIS) for the Construction of the Thomas Jefferson Hall (Cadet Library-Learning Center) and Other Cadet Zone Activities Within the United States Military Academy (USMA), West Point, NY

AGENCY: U.S. Military Academy, Department of the Army, DoD.

ACTION: Notice of availability.

SUMMARY: This announces the availability of the DEIS which assesses the potential environmental impacts of the design, construction and operation of the new Cadet Library-Learning Center, identified as Thomas Jefferson Hall, and other Cadet Zone Activities at USMA.

DATES: The comment period for the DEIS will end 45 days after publication of the NOA in the Federal Register by the U.S. Environmental Protection Agency.

ADDRESSES: To obtain copies of the DEIS or submit comments, contact Douglas R. Cubbison, Acting NEPA Coordinator, Directorate of Housing & Public Works, Engineering Plans & Services Division, Building 667 Ruger Road, West Point, New York 10996.

FOR FURTHER INFORMATION CONTACT: Douglas R. Cubbison at (845) 938-3522, by fax at (845) 938-2529, by e-mail at yd5777@exmail.usma.army.mil, or by mail at the above address.

SUPPLEMENTARY INFORMATION: The purpose of this DEIS is to analyze significant issues and information relevant to environmental concerns regarding the proposed and alternative actions related to academic modernization activities within the Cadet Zone at the USMA. Modernization activities include the construction of a new library and learning center, potential demolition of structures that no longer contribute to the USMA mission, and construction of new facilities to support the USMA mission and modernize the Cadet Zone. These actions are needed to fulfill current and future needs for library and learning space necessary to maintain university accreditation and academic excellence, and to update existing cadet facilities.

Potential consequences of the proposed project identified during interagency and public scoping meetings and addressed in this DEIS include impacts to cultural and visual resources. In particular, these concerns involve the existing significant viewsheds of the Cadet Zone and the configuration and orientation of the new library on the preferred site. The Army anticipates that cultural and visual resources will be affected by the implementation of the proposed action. The Army has responded to these concerns by modifying elements of the proposed action, including the massing of the proposed building and architectural features of its facades.

Secondary and cumulative impacts also were evaluated for the proposed and alternative actions, as well as ongoing and recently completed projects and recently foreseeable future actions. The analyses indicate that adverse environmental consequences, such as the alteration of existing significant viewsheds, would be balanced by beneficial effects, such as the modernization of the Cadet Zone, the continuation of USMA accreditation and an enhanced academic environment.

The Army has considered agency concerns and responded by incorporating recommended changes in the design of the proposed action. Potential adverse environmental impacts to cultural and visual resources will be properly mitigated through a Programmatic Agreement with the New York Office of Parks Recreation and Historic Preservation, the Advisory Council on Historic Preservation and the National Park Service.

A public meeting will be held at the Highland Falls Library in the spring 2003 to solicit both oral and written comments from interested parties. The DEIS will be made available at least two weeks in advance of the scheduled public meeting. The public meeting date and time will be advertised in advance in local newspapers and meeting announcement letters will be sent to potentially interested parties.

Comments on the DEIS received during the 45-day public comment period will be considered in the preparation of the Army's Final EIS and Record of Decision. Copies of the DEIS are available for review at the following libraries: USMA Post Library (Building 622), USMA Cadet Library (Building 757), Cold Spring Public Library, Highland Falls Public Library, Cornwall Public Library and Garrison Public Library.

Dated: May 20, 2003.
Raymond J. Fatz,
Deputy Assistant Secretary of the Army, (Environment, Safety and Occupational Health) OASA(I&E).

[FR Doc. 03-13219 Filed 5-27-03; 8:45 am]

BILLING CODE 3710-08-M